DEPARTMENT OF ENERGY

Federal Energy Regulatory Commission

Combined Notice of Filings #1

Take notice that the Commission received the following electric rate filings:

Docket Numbers: ER15-1825-000.

Applicants: California Independent System Operator Corporation.

Description: Petition for Limited Waiver to Modify Effective Date and Request for Shortened Comment Period of California Independent System Operator Corporation.

Filed Date: 2/4/16.

Accession Numbers: 20160204-5236, 20160205-5049.

Comments Due: 5 p.m. ET 2/11/16.

Docket Numbers: ER16-898-000.

Applicants: Northern States Power Company, a Minnesota corporation.

Description: Tariff Cancellation: 20160204_Rate Schedule 601_Cancellation to be effective 4/30/2015.

Filed Date: 2/4/16.

Accession Number: 20160204-5212.

Comments Due: 5 p.m. ET 2/25/16.

Docket Numbers: ER16-899-000.

Applicants: Orange and Rockland Utilities, Inc.

Description: Notice of Cancellation of Power Supply Agreement, Rate Schedule FERC No. 60, and Request for Waivers of Orange and Rockland Utilities, Inc.

Filed Date: 2/4/16.

Accession Number: 20160204-5225.

Comments Due: 5 p.m. ET 2/25/16.

Docket Numbers: ER16-900-000.

Applicants: Midcontinent Independent System Operator, Inc.

Description: Section 205(d) Rate Filing: 2016-02-05_SA 2893 Black Hawk MPFCA (J233, J274, J278, J279) to be effective 2/6/2016.

Filed Date: 2/5/16.

Accession Number: 20160205-5083.

Comments Due: 5 p.m. ET 2/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2016.
Nathaniel J. Davis, Sr.,
Deputy Secretary.

[FR Doc. 2016-02755 Filed 2-10-16; 8:45 am]

BILLING CODE 6717-01-P